DEPARTMENT OF AGRICULTURE

Commodity Credit Corporation

2008-Crop Marketing Assistance Loans and Loan Deficiency Payments for Loan Commodities Except Cotton and Peanuts

AGENCY: Commodity Credit Corporation, USDA.

ACTION: Notice.

SUMMARY: The Commodity Credit Corporation (CCC) will extend Marketing Assistance Loans (MAL) and Loan Deficiency Payments (LDP) for the 2008 crop. The loan commodities covered by this Federal Register Notice include: wheat, corn, grain sorghum, barley, oats, soybeans, rice, sunflower seed, rapeseed, canola, safflower, flaxseed, mustard seed, crambe, sesame seed, graded and non-graded wool, mohair, honey, dry peas, lentils, and small chickpeas. As a result of this notice, CCC will be able to commence administration of 2008-crop MAL and LDP provisions and announce applicable 2008-crop loan rates, schedules of premiums and discounts, and other related rates.

DATES: Effective Date: June 5, 2008.

FOR FURTHER INFORMATION CONTACT: Candace Thompson, Director, Price Support Division, Farm Service Agency, USDA, STOP 0512, 1400 Independence Avenue, SW., Washington, DC 20250-0512; telephone: (202) 720-7901 or fax: (202) 690-3307; e-mail: candy.thompson@wdc.usda.gov. Persons with disabilities who require alternative means for communication (Braille, large print, audiotape, etc.) should contact the USDA Target Center at (202) 720-2600 (voice and TDD).

SUPPLEMENTARY INFORMATION:

CCC administers the loan program including MAL and LDP, which provides short-term financing to allow farmers to pay their bills soon after harvest and facilitate orderly marketing throughout the rest of the year. The loan program also provides significant income support when market prices are below statutory loan rates. Current regulations for MAL and LDP apply to the 2002 through 2007 crop years.

The Food, Conservation, and Energy Act of 2008 (Pub. L. 110-234) (2008 Farm Bill) authorized the continuation of MAL and LDP, under the regulations found at 7 CFR parts 1421, 1425, and 1434, for all loan commodities for the 2008 through 2012 crops.

With the pending harvest of 2008-crop loan commodities, this notice announces that CCC will implement immediately MAL and LDP provisions for 2008-crop wheat, corn, grain sorghum, barley, oats, soybeans, rice, sunflower seed, rapeseed, canola, safflower, flaxseed, mustard seed, crambe, sesame seed, graded and non-graded wool, mohair, honey, dry peas, lentils, and small chickpeas based on the current regulation in:

• 7 CFR Part 1421, Grains and Similarly Handled Commodities—Marketing Assistance Loans and Loan Deficiency Payments for the 2002 through 2007 Crop Years;

• 7 CFR Part 1425, Cooperative Marketing Associations; and

• 7 CFR Part 1434, Nonrecourse Marketing Assistance Loan and LDP Regulations for Honey.

CCC plans to amend the applicable regulations to reflect changes provided by the 2008 Farm Bill by August 31, 2008.

In addition, as a result of this notice, CCC will be able to announce applicable 2008-crop loan rates, schedules of premiums and discounts, and other related rates.

Environmental Review

FSA has determined that this change would not constitute a major Federal action that would significantly affect the quality of the human environment. Therefore, in accordance with the 7 CFR Part 799, Environmental Quality and Related Environmental Concerns—Compliance with the National Environmental Policy Act, implementing the regulations of the Council on Environmental Quality (40 CFR parts 1500-1508), no environmental assessment or environmental impact statement will be prepared.

Signed at Washington, DC, on June 3, 2008.
Teresa C. Lasseter,
Executive Vice President, Commodity Credit Corporation.

[FR Doc. 08-1334 Filed 6-5-08; 12:00 pm]

BILLING CODE 3410-05-P